DEPARTMENT OF THE INTERIOR

National Park Service

[NPS-WASO-NAGPRA-NPS0027251; PPWOCRADN0-PCU00RP14.R50000]

Notice of Inventory Completion: Baylor University's Mayborn Museum Complex, (Formerly Baylor University's Strecker Museum), Waco, TX

AGENCY: National Park Service, Interior.

ACTION: Notice.

SUMMARY: The Baylor University's Mayborn Museum Complex (formerly Baylor University's Strecker Museum) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Baylor University's Mayborn Museum Complex. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Baylor University's Mayborn Museum Complex at the address in this notice by April 1, 2019.

ADDRESSES: Anita L. Benedict, Baylor University's Mayborn Museum Complex, One Bear Place #97154, Waco, TX 76798-7154, telephone (254) 710-4835, email anita_benedict@baylor.edu.

SUPPLEMENTARY INFORMATION: Notice is here given in accordance with the Native American Graves Protection and Repatriation Act (NAGPRA), 25 U.S.C. 3003, of the completion of an inventory of human remains and associated funerary objects under the control of the Baylor University's Mayborn Museum Complex, Waco, TX. The human remains and associated funerary objects were removed from Bosque, Coryell, and Lampasas Counties, TX.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Baylor University's Mayborn Museum Complex professional staff in consultation with representatives of the Caddo Nation of Oklahoma; Comanche Nation, Oklahoma; Jicarilla Apache Nation, New Mexico; Kiowa Indian Tribe of Oklahoma; Mescalero Apache Tribe of the Mescalero Reservation, New Mexico; Tonkawa Tribe of Indians of Oklahoma; and the Wichita and Affiliated Tribes (Wichita, Keechi, Waco & Tawakonie), Oklahoma, (hereafter, referred to as “The Consulted and Notified Tribes”).

History and Description of the Remains

In July 1979, human remains representing, at minimum, one individual were removed from under a limestone overhang at Cranfills Gap, Bosque County, TX, by John Harrington. On September 27, 1979 the human remains were donated to Baylor University's Strecker Museum. The human remains (AR 13342) represent one individual of undetermined age and sex. No known individual was identified. No associated funerary objects are present.

Between 1926 and 1930, human remains representing, at minimum, one individual, were removed from the Warren Hollow site, Cave Creek, Coryell County, TX, by Jessie Howard. In 1990, the Bosque Valley Heritage Museum donated the human remains and associated funerary objects to Baylor University's Strecker Museum. The human remains (AR 20847) represent a female approximately 20 years of age. No known individual was identified. The 23 associated funerary objects are one pottery sherd (AR 16012), two lots charcoal (AR 16013, AR 16020), one hand-twisted fiber (AR 16014), one partial animal (possibly opossum) skull (AR 16015), one stick with a burnt end (AR 16016), one lot unidentified animal bone fragments (AR 16017), two cane fragments (AR 16018), one plant root (AR 16019), eight animal teeth (AR 16021, AR 16025, AR 16027), two pecans (AR 16022), two rocks (AR 16023, AR 16024) and one worked animal bone (AR 16026).

On September 21, 1930, human remains representing, at minimum, two individuals were removed from the Acree Farm, Leon River, Coryell County, TX, by Kenneth H. Aynesworth. On an unknown date, prior to 1953, the human remains were donated to Baylor University's Strecker Museum. Both individuals (AR 12776, AR 3340) are of undetermined age and sex. No known individuals were identified. No associated funerary objects are present.

In the mid-1950s, human remains representing, at minimum, one individual were removed from Horse Creek, Coryell County, TX, by Frank H. Watt. On an unknown date the human remains and associated funerary object were donated to Baylor University's Strecker Museum. The human remains (AR 20813) are of an undetermined age and sex. The one associated funerary object (AR 20909) is a pottery sherd.

On January 1, 1956, human remains representing, at minimum, three individuals were removed from Stampede Creek, Coryell County, TX, by Harry Shafer. On January 1, 1956, the human remains and associated funerary objects were donated to the Baylor University's Strecker Museum. The human remains represent a 45-year-old female (AR 12761) and two males of undetermined age (AR 20913, AR 20914). No known individuals were identified. The one associated funerary object (AR 20915) is one lot of mixed materials (includes deer bone, rocks, and shell).

On November 25, 1964, human remains representing, at minimum, two individuals were removed from a dry overhang one mile north of an iron bridge on the Leon River, Coryell County, TX, by Charles L. Sells. On March 17, 1978 they were donated to Baylor University's Strecker Museum. The human remains (AR 16476, AR 20910) represent one 20-25 year-old male and one individual of undetermined age and sex. No known individuals were identified. No associated funerary objects are present.

On April 27, 1978, human remains representing, at minimum, one individual were removed by Bob Fix from “below Indian caves, from ranch at Gatesville,” Coryell County, TX. On April 28, 1978, the human remains were donated to the Baylor University's Strecker Museum. The individual (AR 13343-A-LL) is of undetermined age and sex. No known individual was identified. No associated funerary objects are present.

In September 1979, human remains representing, at minimum, four individuals were removed from the J.D. Cummings property, Coryell County, TX, by the property owner. On September 11, 1979, the human remains and associated funerary objects were donated to the Baylor University's Strecker Museum. The human remains represent one male aged 30-40 years (AR 16477), one male aged 50-60 years (AR 16478), and two individuals of undetermined age and sex (AR 16479, AR 20911). No known individuals were identified. The 12 associated funerary objects are two bullets (AR 16480, AR 16481); eight rocks (AR 16482 through AR 16489); one projectile point (AR 16490); and one lot of animal bone fragments (AR 20912).

On July 22, 1990, human remains representing, at minimum, one individual were removed from Shelter #2, Davis Road, near Mother Neff State Park, Coryell County, TX, by David Lintz, Tom Charlton, Calvin B. Smith, and an individual identified as “Davis.” On an unknown date, the human remains were donated to the Baylor University's Strecker Museum. The individual (AR 20830) is of undetermined sex and age. No known individual was identified. No associated funerary objects are present.

On December 30, 1957, human remains representing, at minimum, one individual, were removed from an unknown location in Lampasas County, TX, by biology student Burlee Kuhn. On January 14, 1958, they were donated to Baylor University's Strecker Museum. The human remains (AR 12775) represent one individual of undetermined age and sex. No known individual was identified. No associated funerary objects are present.

In June 1953, human remains representing, at minimum, one individual were removed from a location on the Leon River, near Bland, Coryell County, TX, by James Geisselbrecht and other unnamed individuals. In June 1953, the human remains were donated to Baylor University's Strecker Museum. The human remains (AR 16482) represent a 27-30 year-old female. No known individual was identified. No associated funerary objects are present.

Determinations Made by Baylor University's Mayborn Museum Complex

Officials of Baylor University's Mayborn Museum Complex have determined that:

• Pursuant to 25 U.S.C. 3001(9), the human remains described in this notice are Native American, based on archeological context and museum documentation.

• Pursuant to 25 U.S.C. 3001(9), the human remains described in this notice represent the physical remains of 18 individuals of Native American ancestry.

• Pursuant to 25 U.S.C. 3001(3)(A), the 37 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders indicate that the land from which the Native American human remains and associated funerary objects were removed is the aboriginal land of the Comanche Nation, Oklahoma, and the Kiowa Indian Tribe of Oklahoma.

• Pursuant to 43 CFR 10.11(c)(1), the disposition of the human remains and associated funerary objects may be to the Comanche Nation, Oklahoma, and the Kiowa Indian Tribe of Oklahoma.

Additional Requestors and Disposition

Representatives of any Indian Tribe or Native Hawaiian organization not identified in this notice that wish to request transfer of control of these human remains and associated funerary objects should submit a written request with information in support of the request to Anita L. Benedict, Baylor University's Mayborn Museum Complex, One Bear Place #97154, Waco, TX 76798-7154, telephone (254) 710-4835, email anita_benedict@baylor.edu, by April 1, 2019. After that date, if no additional requestors have come forward, transfer of control of the human remains and associated funerary objects to the Comanche Nation, Oklahoma, and the Kiowa Indian Tribe of Oklahoma may proceed.

Baylor University's Mayborn Museum Complex is responsible for notifying The Consulted and Notified Tribes that this notice has been published.

Dated: February 1, 2019.
Melanie O'Brien,
Manager, National NAGPRA Program.

[FR Doc. 2019-03571 Filed 2-28-19; 8:45 am]

BILLING CODE 4312-52-P